DEPARTMENT OF AGRICULTURE

Forest Service

Notice of New Fee Site and Change in Fee Program Structure; Federal Lands Recreation Enhancement Act (Title VIII, Pub. L. 108-447)

AGENCY: Coconino National Forest, USDA Forest Service, Arizona.

ACTION: Notice of new fee sites and change in fee program structure.

SUMMARY: The Coconino National Forest is proposing to begin charging a new fee for the following two facilities: Dry Creek Vista Picnic Site and Fay Canyon Vista and Trailhead. These sites are part of a larger Red Rock Pass fee proposal. For more details, go to www.fs.usda.gov/coconino.

Dry Creek Vista Picnic Site: This site is located 2 miles northwest of Sedona, Arizona within the Red Rock Ranger District on Dry Creek Road. The site is a developed day use picnic site with a toilet, 40 surfaced parking spaces, interpretive kiosk, trash containers, scenic vista, picnic tables, security patrols, and access to several non-motorized trails. The site supports a variety of public recreation day uses. The site is proposed to be included as a fee site within the Red Rock Pass Fee Program. The charge is $5.00/day.

Fay Canyon Vista and Trailhead: This site is located 3 miles northwest of Sedona, Arizona within the Red Rock Ranger District on Boynton Pass Road. The site is a developed day use site with a toilet, 42 surfaced parking spaces, interpretive kiosk, trash containers, scenic vista, picnic tables, security patrols, and access to the Fay, Cockscomb and Aerie trails. The site supports a variety of public recreation day uses. The site is proposed to be included as a fee site within the Red Rock Pass Fee Program. The charge is $5.00/day.

DATES: Should the fee proposal be approved by the Regional Forester, these new fees will go into effect no sooner than six months after the date of publication in the Federal Register.

ADDRESSES: Address all comments concerning this notice to Forest Supervisor, Coconino National Forest, 1824 South Thompson Street, Flagstaff, Arizona 86001.

FOR FURTHER INFORMATION CONTACT: Jennifer Burns, Red Rock District Recreation Staff Officer, Coconino National Forest, 928-203-7529 or via email at jmburns@fs.fed.us.

SUPPLEMENTARY INFORMATION: Dry Creek Vista Picnic Site; Fay Canyon Vista Trailhead. These locations are extremely popular with over 500 visitors per day during spring and fall using the sites for recreation. The amenities at these sites are critical both for public services and for resource protection. The general area is rich in archaeological remains and also has sensitive soils. The developed sites have adequate amenities to mitigate resource damage which can accompany such high recreation pressure. The fee revenue will be used to maintain the sites and provide public security: pump the vault toilet, provide janitorial service, remove garbage, provide interpretation, repair signs and parking surfaces and support Forest Service patrols in the area for visitor assistance and security. Dry Creek site: T.17N., R.5E., Sec. 3, NE1/4NW1/4N1/2; Fay Canyon site: T.17N., R.5E., Sec.31, GSRBM. These two new fee proposals are part of a larger fee modification proposal on the Coconino National Forest.

The full fee proposal can be found on the Coconino (or Red Rock) National Forest Web site at: http://www.fs.usda.gov/main/coconino/landmanagement/planning.

Dated: September 21, 2015.
Laura Jo West,
Coconino National Forest Supervisor.

[FR Doc. 2015-24566 Filed 9-25-15; 8:45 am]

BILLING CODE 3411-15-P